NATIONAL SCIENCE FOUNDATION

Committee Management Renewals

The National Science Foundation (NSF) management officials having responsibility for the advisory committees listed below have determined that renewing these groups for another two years is necessary and in the public interest in connection with the performance of duties imposed upon the Director, National Science Foundation (NSF), by 42 U.S.C. 1861 et seq. This determination follows consultation with the Committee Management Secretariat, General Services Administration.

Committees:

Advisory Committee for Computer and Information Science and Engineering #1115

Advisory Committee for Mathematical and Physical Sciences #66

Advisory Committee for Social, Behavioral, and Economic Sciences #1171

Business and Operations Advisory Committee #9556

Committee on Equal Opportunities in Sciences and Engineering #1173

Proposal Review Panel for Astronomical Sciences #1186

Proposal Review Panel for Chemical, Bioengineering, Environmental, and Transport Systems #1189

Proposal Review Panel for Chemistry #1191

Proposal Review Panel for Civil, Mechanical, and Manufacturing Innovation #1194

Proposal Review Panel for Computer and Network Systems #1207

Proposal Review Panel for Computing & Communication Foundations #1192

Proposal Review Panel for Cyberinfrastructure #1185

Proposal Review Panel for Electrical, Communications, and Cyber Systems #1196

Proposal Review Panel for Engineering Education and Centers #173

Proposal Review Panel for Graduate Education #57

Proposal Review Panel for Human Resource Development #1199

Proposal Review Panel for Information and Intelligent Systems #1200

Proposal Review Panel for Materials Research #1203

Proposal Review Panel for Mathematical Sciences #1204

Proposal Review Panel for Physics #1208

Proposal Review Panel for Polar Programs #1209

Proposal Review Panel for Undergraduate Education #1214

Effective date for renewal is June 29, 2022. For more information, please contact Crystal Robinson, NSF, at (703) 292-8687.

Dated: June 29, 2022.
Crystal Robinson,
Committee Management Officer.

[FR Doc. 2022-14252 Filed 7-1-22; 8:45 am]

BILLING CODE 7555-01-P